FEDERAL DEPOSIT INSURANCE CORPORATION

Agency Information Collection Activities: Proposed Collection Renewals (0028; 0121); Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following continuing collections of information titled: (1) Recordkeeping and Confirmation Requirements for Securities Transactions (3064-0028); and (2) Certification of Compliance with Mandatory Bars to Employment (3064-0121).

DATES: Comments must be submitted on or before May 18, 2009.

ADDRESSES: Interested parties are invited to submit written comments on the collections of information entitled: (1) Recordkeeping and Confirmation Requirements for Securities Transactions (3064-0028); and (2) Certification of Compliance with Mandatory Bars to Employment (3064-0121). Comments should refer to the name of the collections and may be submitted by any of the following methods:

• Web Site: http://www.FDIC.gov/regulations/laws/federalnotices.html.

• E-Mail: comments@fdic.gov.

• Mail: Herbert J. Messite, Counsel, telephone 202-898-6834, Legal Division, Federal Deposit Insurance Corporation, 550 17th Street, NW., Washington, DC 20429.

• Hand Delivery: Comments may be hand delivered to the guard station at the rear of the 550 17th Street Building (located on F Street), on business days between 7 a.m. and 5 p.m.

A copy of the comments may also be submitted to the OMB Desk Officer for the FDIC, Office of Information and Regulatory Affairs, Office of Management and Budget, New Executive Office Building, Room 3208, Washington, DC 20503.

FOR FURTHER INFORMATION CONTACT: Herbert J. Messite at the address identified above.

SUPPLEMENTARY INFORMATION: Proposal to renew the following currently approved collections of information:

1. Title: Recordkeeping and Confirmation Requirements for Securities Transactions.

OMB Number: 3064-0028.

Frequency of Response: On occasion.

Affected Public: Business or other financial institutions.

Estimated Number of Respondents: 4470.

Estimated Time per Response: 27.91 hours.

Total Annual Burden: 124,758 hours.

General Description of Collection: The information collection requirements are contained in 12 CFR part 344. The regulation's purpose is to ensure that purchasers of securities in transactions effected by insured state nonmember banks are provided with adequate records concerning the transactions. The regulation is also designed to ensure that insured state nonmember banks maintain adequate records and controls with respect to the securities transactions they effect.

2. Title: Certification of Compliance with Mandatory Bars to Employment.

OMB Number: 3064-0121.

Form Number: FDIC 7300/06.

Frequency of Response: On occasion.

Affected Public: Business or other financial institutions.

Estimated Number of Respondents: 600.

Estimated Time per Response: 10 minutes.

Total Annual Burden: 99.96 hours.

General Description of Collection: Prior to an offer of employment, job applicants to the FDIC must sign a certification that they have not been convicted of a felony or been in other circumstances that prohibit a person from becoming employed by or providing services to FDIC.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 12th day of March, 2009.
Valerie J. Best,
Assistant Executive Secretary, Federal Deposit Insurance Corporation.

[FR Doc. E9-5817 Filed 3-17-09; 8:45 am]

BILLING CODE 6714-01-P